EXPORT-IMPORT BANK

[Public Notice 2013-1111]

Agency Information Collection Activities: Comment Request

AGENCY: Export-Import Bank of the United States.

ACTION: Submission for OMB Review and Comments Request.

Form Title: EIB 92-32 Notification by Insured of Amounts Payable Under Single-Buyer Export Credit Insurance Policy.

SUMMARY: The Export-Import Bank of the United States (Ex-Im Bank), as a part of its continuing effort to reduce paperwork and respondent burden, invites the general public and other Federal Agencies to comment on the proposed information collection, as required by the Paperwork Reduction Act of 1995.

This form represents the exporter's directive to Ex-Im Bank to whom and where the insurance proceeds should be sent. The forms are typically part of the documentation required by financial institution lenders in order to provide financing of an exporter's foreign accounts receivable. Foreign accounts receivable insured by Ex-Im Bank represent stronger collateral to secure the financing. By recording which policyholders have completed this form, Ex-Im Bank is able to determine how many of its exporter policyholders require Ex-Im Bank insurance policies to support lender financing.

The application can be reviewed at: www.exim.gov/pub/pending/eib92-32.pdf.

Single Buyer Export Credit Insurance Policy.

DATES: Comments should be received on or before April 22, 2013 to be assured of consideration.

ADDRESSES: Comments maybe submitted electronically on www.regulations.gov or by mail to Office of Management and Budget, Office of Information and Regulatory Affairs, 725 17th Street NW., Washington, DC 20038 attn: OMB-3048-XXXX (EIB 92-32).

SUPPLEMENTARY INFORMATION:

Titles and Form Number: EIB 92-32 Single Buyer Export Credit Insurance Policy.

OMB Number: 3048-XXXX.

Type of Review: New.

Need and Use: The information requested enables the applicant to provide Ex-Im Bank with the information necessary to obtain legislatively required assurance of repayment and fulfills other statutory requirements.

Annual Number of Respondents: 150.

Estimated Time per Respondent: 15 minutes.

Frequency of Reporting or Use: Annually.

Government Review Time: 1 hour.

Total Hours: 150 hours.

Cost to the Government: $16,320.

Sharon A. Whitt,
Agency Clearance Officer.

[FR Doc. 2013-06558 Filed 3-21-13; 8:45 am]

BILLING CODE 6690-01-P